DEPARTMENT OF THE INTERIOR

Bureau of Land Management

[OR-130-1020-PH; HAG-145]

Notice of Intent To Prepare Resource Management Plan Revisions and an Associated Environmental Impact Statement for Six Western Oregon Districts of the Bureau of Land Management

AGENCY: Bureau of Land Management, Interior.

ACTION: Notice of intent.

SUMMARY: This document provides notice that the BLM intends to revise six Resource Management Plans (RMP) with a single associated Environmental Impact Statement (EIS) for the Coos Bay District, Eugene District, Medford District, Roseburg District, Salem District, and the Klamath Falls Resource Area of the Lakeview District (planning area).

DATES: This notice initiates the public scoping process. Comments on the scope of the plan revisions, including issues or concerns that should be considered, must be submitted in writing to the address listed below by October 21, 2005. Dates and locations for public meetings or other events will be announced through mailings, the local news media, newsletters, and the BLM internet site at least 15 days prior to any event. These plan revisions are scheduled to be complete in 2008.

ADDRESSES: Written comments should be addressed to: BLM, Attn: Western Oregon Planning Revision (OR-930.1), P.O. Box 2965, Portland, OR 97208. In addition, the BLM intends to provide a Web site for the public to use to submit electronic comments. When the Web site is available, more information will be posted at http://www.or.blm.gov.

All public comments, including names and mailing addresses of respondents, may be published as part of the EIS. Individual respondents may request confidentiality. If you wish to withhold your name or street address from public review or from disclosure under the Freedom of Information Act, please state this prominently at the beginning of your written correspondence. The BLM will honor such requests to the extent allowed by law. All submissions from organizations and businesses, and from individuals identifying themselves as representatives or officials of organizations or businesses, will be available to the public in their entirety.

FOR FURTHER INFORMATION CONTACT: Individuals, organizations, and government agencies wishing more information or to have their name placed on an electronic or postal mailing list are urged to register on the Web site (when it is available; see above), or by sending a request to the Portland address above, or by contacting Alan Hoffmeister, Western Oregon Planning Revision Public Outreach Coordinator, at (503) 808-6629 or at alan_hoffmeister@or.blm.gov.

SUPPLEMENTARY INFORMATION: The planning area for the RMPs includes approximately 2,550,000 acres of public land and 69,000 acres of split-estate, where the lands only involve the Federal mineral estate.

The Federal Land Policy and Management Act of 1976 requires the development, maintenance, and revision of land use plans. The vast majority of the public lands in the planning area are Revested Oregon and California Railroad (O&C) lands, or Coos Bay Wagon Road (CBWR) lands, and are managed under the statutory authority of the Oregon and California Revested Railroad Lands Act of 1937 (O&C Act, Pub. L. 75-405). Preparation of the RMPs and EIS will conform to the above land management laws and will also comply with other Federal laws such as the Endangered Species Act, Clean Water Act, and the National Environmental Policy Act. Additionally, plan revisions will follow Federal regulations and BLM management policies.

Congress, in 1866, established a land grant to promote the completion of the Oregon and California Railroad from Portland, Oregon, to San Francisco, California. In 1916, Congress revested, or brought back into Federal ownership, the title to approximately 2.2 million acres of land deeded to the Oregon and California Railroad after the company violated the terms of the land grant. Congress also revested about 93,000 acres of CBWR lands due to similar circumstances in 1919. The O&C Act of 1937 placed management jurisdiction of these lands under the United States Department of the Interior and directed that timber thereon be managed for permanent forest production using the principle of sustained yield. The benefits of sustained yield forest management, as described in the O&C Act, are a permanent source of timber, protection of watersheds, regulation of streamflow, and a contribution to the stability of local communities and timber industries and recreation facilities. The O&C Act also required that 50 percent of the revenue generated for management of the lands be returned to the 18 counties that contained revested lands.

The Northwest Forest Plan was completed in 1994 and provided direction to achieve the following five goals: (1) Never forget human and economic dimensions of the issues; (2) Protect the long-term health of forests, wildlife, and waterways; (3) Focus on scientifically sound, ecologically credible, and legally responsible strategies and implementation; (4) Produce a predictable and sustainable level of timber sales and nontimber resources; and (5) Ensure that Federal agencies work together.

All of the BLM districts have current RMPs that were completed in 1995. These 1995 RMPs incorporated the land use allocations and Standards and Guidelines from the Northwest Forest Plan. They also included decisions on other issues or programs such as land tenure, off-highway vehicles, etc. The RMPs provide guidance for all activities that occur on BLM-administered lands. The BLM will continue to manage these lands in accordance with the existing RMPs until the revised RMPs are completed and a Record of Decision is signed.

After the 1995 RMPs were completed, the American Forest Resource Council (AFRC) and others filed a lawsuit against the Secretaries of Agriculture and the Interior alleging that the Record of Decision for the Northwest Forest Plan violated the O&C Act and numerous other laws. The Secretary of the Interior, the Secretary of Agriculture, the AFRC, and the Association of O&C Counties agreed to settle this lawsuit in August of 2003. The settlement agreement requires the BLM, contingent on funding, to revise the current RMPs and consider at least one alternative that will not create any reserves on O&C lands except as required to avoid jeopardy to species listed as threatened or endangered under the Endangered Species Act or adverse modification to critical habitat for such species.

The revisions to the existing RMPs will answer the question regarding how the BLM should manage the O&C lands to achieve the O&C Act requirement of permanent forest production [as interpreted by the United States Court of Appeals for the Ninth Circuit] while complying with applicable laws such as the Endangered Species Act and the Clean Water Act.

Through a public participation process, the BLM will work collaboratively with interested parties to identify which management direction is best suited to manage the O&C lands as described in the O&C Act and other provisions of laws considering local, regional, and national interests. The first step in this process is formal public scoping to help identify planning issues and provide for public comment on the proposed planning criteria.

Issues

The BLM has identified the following preliminary planning issues. A planning issue is identified as a “matter of controversy or dispute over resource management activities or land use that is well-defined or topically discrete and entails alternatives between which to choose” (H-1601-1 III.A.3). These preliminary issues are not final and may be refined or augmented based on public participation and comments received during scoping.

• Vegetation—How should BLM-administered forest lands be managed, both temporally and spatially, to provide a sustainable supply of wood and other forest products mandated by the O&C Act while meeting applicable laws and regulations?

• Habitat—How should the O&C lands be managed to contribute to the conservation of species consistent with the Endangered Species Act?

• Watershed management and water quality—How should BLM lands be managed to contribute to meeting the Clean Water Act and the Safe Drinking Water Act?

• Wildland fire and fuels—How should BLM-administered land be managed to reduce the risk of wildfires and integrate fire back into the ecosystem?

Planning Criteria

The BLM has also identified some preliminary criteria to guide the development of the RMPs, to avoid unnecessary data collection and analysis, and to ensure the RMPs are tailored to the issues. These criteria may be modified or other criteria identified after the public scoping process. The public is invited to comment on the following preliminary planning criteria:

Purpose and need for the plan revisions:

• The BLM will manage the O&C lands to achieve the O&C Act requirement of permanent forest production [as interpreted by the United States Court of Appeals for the Ninth Circuit] while complying with applicable laws such as the Endangered Species Act and the Clean Water Act.

Alternatives to be considered:

A reasonable range of alternatives will be considered. All alternatives will be designed to comply with existing laws. Two alternatives known at this time are:

• No Action—continue management under the current RMPs.

• An alternative which will not create any reserves on O&C lands except as required to avoid jeopardy to species listed as threatened or endangered under the Endangered Species Act.

In choosing a preferred alternative for the involved lands, the BLM will consider factors such as:

• The quality of habitats created.

• The impacts on water quality limited streams.

• The amount of timber produced.

• The contributions to community stability.

• Costs of implementation.

As part of this RMP process, the BLM will analyze areas for potential designation as Areas of Critical Environmental Concern (ACEC) in accordance with 43 CFR 1610.7-2. Public nominations for potential ACECs to be considered in these revisions must be made by October 28, 2005.

James G. Kenna,
Associate State Director, Oregon/Washington, Bureau of Land Management.

[FR Doc. 05-17641 Filed 9-6-05; 8:45 am]

BILLING CODE 4310-33-P